DEPARTMENT OF AGRICULTURE

Forest Service

Withdrawal of the Regional Guide for the Southwestern Region

AGENCY: Forest Service, USDA.

ACTION: Notice.

SUMMARY: The intended effect of this action is to comply with 36 CFR part 219 section 219.35(e) which directs that within 1 year of November 9, 2000, the Regional Forester must withdraw the Regional Guide. When a Regional Guide is withdrawn, the Regional Forester must identify any decisions in the Regional Guide that are to be transferred to a regional supplement of the Forest Service directive system (36 CFR 200.4) or to one or more plans and give notice in the Federal Register of these actions.

DATES: This action will be effective November 9, 2001.

FOR FURTHER INFORMATION CONTACT: Arthur Briggs, Director of Planning; Southwestern Region; 333 Broadway SE, Albuquerque, NM. Phone: (505) 842-3292.

SUPPLEMENTARY INFORMATION: This action accomplishes the withdrawal of the Regional Guide for the Southwestern Region. An analysis of the direction contained in the Regional Guide shows that all its applicable direction is either: (1) Already incorporated into Forest Plans, Forest Service directives, statutes or regulations; or (2) contains guidance that does not need to be brought forward as direction to facilitate forest planning. No further action is needed to complete the withdrawal of the Regional Guide for the Southwestern Region.

Dated: December 10, 2001.
James T. Gladen,
Deputy Regional Forester, For Natural Resources.

Management Direction From the Regional Guide for the Southwestern Region
Standards/Guidelines From Regional Guide | Addressed in
Watershed Management
1. Use the watershed condition index to rate ecosystems and watersheds as being in optimum, satisfactory, or unsatisfactory condition. | Forest Plans. Direction is obsolete, and will be updated in revised Forest Plans. Replaced by FSM 2510.42 and 2510.43 (R3 Suppl). Also see FSM 1922.15(20).
2. Manage terrestrial ecosystem and watersheds to maintain satisfactory conditions for the productivity and protection of watersheds. Improve those watersheds where conditions are unsatisfactory. | Forest Plans, and FSM 2522.11.
3. Design and maintain all water developments that are needed to provide water for National Forest System uses for water use efficiency. When selecting the preferred means of developing or redeveloping a water source for National Forest System use, consider water use efficiency as an analysis criterion. Encourage all users to use water efficiently. Design and maintain National Forest System water developments to minimize water losses. Because of their relative inefficiency, use stockponds only when no other economic means of providing water for livestock and wildlife is available. | Forest Plans, and FSM 2541.04.
4. During the Forest planning process, recognize potential water resource development sites, including sites that are inventoried by State and Federal water resource management agencies. | Forest Plans, and FSM 2535.03 (R3 Suppl).
5. Manage and use the range resource in a manner that maintains or improves watershed to a satisfactory or optimum condition. (Definitions of satisfactory and optimum watershed conditions are in the Glossary of the EIS.) | Forest Plans, and FSM 2211.1 (R3 Suppl).
6. In the Forest planning process, apply the following prescriptions for each watershed condition class: (a) Optimum—maintain these conditions. (b) Satisfactory—improve where cost effective. (c) Unsatisfactory—emphasize improvement. | Forest Plans. Direction is obsolete, and will be updated in revised Forest Plans. Replaced by FSM 2510.42 and 2510.43 (R3 Suppl).
7. Assign no forage capacity to areas in unsatisfactory watershed condition where reforestation measures are not cost effective. Through management, restrict livestock use in these areas. | FSM 2211.1 (R3 Suppl).
8. Improve all terrestrial ecosystems and watersheds to satisfactory or better condition by 2020. | FSM 2522.02 (R3 Suppl).
9. Complete watershed restoration action plans by 1990 to improve all unsatisfactory terrestrial ecosystems and watersheds. (These action plans cover all activities and uses and are supplemental to the Forest Plans). | FSM 2510.43 (R3 Suppl), and FSM 2532.4 (R3 Suppl).
10. Integrate soil and water conservation measures with management activities to ensure maintenance and improvement of watershed conditions. Temporary variances for apparent unsatisfactory watershed condition ratings will be given if soil and water conservation measures are successfully implemented. | Forest Plans, using Best Mgt Practices, in FSH 2509.22 (R3 Suppl), and FSM 2530.44 (R3 Suppl) and FSM 2532.03 (R3 Suppl).
11. After the second growing season following a wildfire, evaluate changes in watershed condition. | Forest Plans.
12. Maintain viable populations of all existing native and desired nonnative vertebrate species in the planning area. Provide a diversity of plant and animal communities to meet multiple-use objectives. | Forest Plans, and 36 CFR 219.19 and 219.27(g), FSM 2634, FSM 2670.12.
13. When compatible with multiple-use objectives and when cost effective, schedule water yield improvement projects in State-identified basins where recoverable increases exceed 0.5 inch per year. Consider water yield designs in all management prescriptions. Emphasize water yield increases in multiple-use prescriptions for chaparral. | FSM 2522.12 (R3 Suppl).
Fuelwood Management
1. Permits will be required for all fuelwood on all Forests by July 1, 1983. | 36 CFR 223.5-223.13, and some Forest Plans.
2. Free fuelwood will be available only under the following circumstances: (a) Dead and down timber—when supply exceeds demand, access is limited or difficult, or special environmental, or economic considerations preclude effective management under the charge permit system (b) Live timber—when sufficient amounts of dead and down material are not available and there is a need to meet multiple-use objectives, such as harvesting green trees to improve the growth rate of residual trees or for insect and disease control | 36 CFR 223.5-223.13, and some Forest Plans.
3. Stumpage charges will be assessed in all circumstances not covered in 2 above. A minimum charge of $10.00 per permit will be collected. The rates per unit will be based on a Regional minimum price, standard rates, developed by Forests, and appraised rates (in the case of offered sales), or joint policies established with the Bureau of Land Management. (The above direction does not apply to the use of small quantities of fuelwood used onsite according to 36 CFR 223.1(e)(3), such as when camping on the Forest.) | FSM 2431.
4. Coordinate uniform sales policies among the Forest Service, States, other Federal agencies, and private landowners to increase the availability and supply of fuelwood. | Forest Plans. Also, in 36 219.7, 219.14, 219.16, & 221.3, and FSM 2460, and FSH 2409.13(42).
5. Manage unsuitable lands to emphasize resource variety based on potential natural vegetation. Modify pinyon-juniper overstory to meet multiple-use objectives for the site consistent with Forest Plans.
6. Previously cleared land areas will be managed to achieve multiple-use objectives, including increased fuelwood supplies.
7. Emphasize fuelwood as a resource in the management of unsuitable lands. Initiate periodic fuelwood inventories on both suitable and unsuitable lands to determine potential source and availability. Estimate sustained harvest levels, track inventory reduction, and establish control procedures to maintain a sustained yield.
8. Where the potential natural vegetation is pinyon-juniper, management priority will be fuelwood production and wildlife habitat. Snag policy (FSM 5151.13, R-3 Supplement 123-7/77) applies in the woodland type. The purpose is to provide adequate habitat to maintain self-sustaining populations of snag-dependent wildlife species on forested lands, including the woodland type. In areas where demand for fuelwood is light and is expected to continue to be so, modification of pinyon-juniper overstory may be justified. Personal or commercial harvest of fuelwood will be considered in all overstory modification projects. | Forest Plans—management area direction for woodland areas. Snag policy in Forest Plans and FSH 2409.
Transportation Systems and Travel Management
1. Accomplish transportation planning, management, development, and maintenance to meet targets and user needs, while minimizing environmental degradation and road densities. Transportation management and planning includes all modes of access. | FSH 7709.55, FSM 1920.15(17).
2. Recognize and evaluate the tangible and intangible benefits and costs of each project to ensure that the objectives of management are fulfilled with minimum adverse effects on the human environment, and in the most cost-effective manner. | Forest Plans and FSM 7731.02, 7731.03.
3. Coordinate transportation facilities according to the following guidelines: (a) Develop and evaluate transportation facility construction and maintenance alternatives and select an alternative that meets management objectives with the least adverse effect on the human environment, and at the least cost. (b) Apply all resource coordination for the protection of National Forest System lands, resources, and ecosystems to the planning, development, and operation of transportation facilities by private parties under permit or easement, or Federal, State and local governments under Memorandums of Understanding. (c) Provide access in a manner consistent with management objectives and environmental policies and standards. (d) Protect threatened and endangered species in planning, development, and operation of transportation facilities (FSM 2601.1). (e) Apply standards for transportation network analysis, as described in Regional supplements 2, 8, and 10 to Chapter 7709.11 of the Forest Service Handbook, to Forest Plans. Forests will integrate transportation planning with land management planning. (f) Protect archaeological sites in planning, development, and operation of transportation facilities. (g) Provide reasonable user safety through design, maintenance, and operation. All new and reconstructed facilities will conform to the Highway Safety Act. | Forest Plan—Transportation Plans, + Forest Plan goals, + FSH 7709.55, and 36 CFR 212.4, also addressed by: Item (b) FSM 2732.6; Item (c) 36 CFR 212.6; FSH 7731.02; Item (d) FSM 2601.1; Item (e) FSH 7709.11; Item (f) Forest Plan standards, 36 CFR 219.24; Item (g) FSH 7709.58, 7709.59, and Highway Safety Act.
4. Emphasize long-run needs and demands. | Forest Plans, 36 CFR 212, and FSH 7709.
5. Allow motorized travel on all National Forest System roads and trails, except where specifically closed or regulated by order. All roads or trails open to motorized travel shall be identified by a route number or assurance arrow. New road construction will be minimized. Certain system roads may be closed during periods of planned activity to reduce maintenance liabilities, minimize conflicts of use, and contribute toward user safety. Local system roads, where needed to accommodate fuelwood gathering, will remain open as long as this purpose can be served. | Forest Plan—Transportation Plans, FSM 2353.04 (R3 Suppl), FSH 7709.59 (25), 36 CFR 212.5, and some Forest Plan standards.
6. Forest Plans shall, by applying planning criteria in FSM 2355, delineate management areas that are open, restricted, and closed to cross-country motorized travel. | Forest Plan Transportation Plans and maps, FSM 2353.04 (R3 Suppl), 36 CFR 212.5 and 219.21(g), FSH 7709.55 (34), and some Forest Plan standards.
7. Motorized travel may not depart from Forest roads and trails and proceed cross-country in those management areas closed or restricted to such use, except as authorized by special permit.
8. Post closed or restricted areas at entrances to these areas, and visibly mark open system roads and trails within the area with a route number of assurance arrow. | FSH 7709.59 (25), 7731.04b, FSM 2353.04 (R3 Suppl).
9. Permit unrestricted cross-country travel in management areas that the Forest Plan shows as open. | Forest Plan Transportation Plans and maps, FSH 7709.55 (34).
10. Regardless of the signing technique chosen, favor humanistic, positive signing techniques over regulatory, negative directions. Emphasis will be placed on giving users information about where their particular activity may be pursued instead of where they are restricted or prohibited. | FSH 7709.55 (30).
11. Eliminate an estimated 10,000 miles of existing unneeded primitive roads by the year 2030. | Forest Plans.
12. Protect wetland and floodplain values and identify hazards in accordance with Executive Orders 11990 and 11988 (see also FSM 2527 and FSM 2528). Avoid the development of transportation facilities or protect existing facilities in wetlands or areas subject to inundation by 100-year floods (1 percent chance of occurring in any year). Remove existing facilities from riparian areas where impacts are unacceptable. | Forest Plans, FSM and Exec Orders., and 36 CFR 219.27(a)(4).
Riparian Area Management
1. Manage riparian areas in accordance with legal requirements regarding floodplains, wetlands, wild and scenic rivers, and cultural and other resources. Recognize the importance and distinct values of riparian areas in Forest Plans. | Forest Plans, + numerous statutes & regulations.
2. Manage riparian areas to protect the productivity and diversity of riparian-dependent resources by requiring actions within or affecting riparian areas to protect and, where applicable, improve dependent resources (FSM 2526). Emphasize protection of soil, water, vegetation, and wildlife and fish resources prior to implementing projects (FSM 2526). | Forest Plans, FSM 2526, and 36 CFR 219.27e; FSM 2526.
3. Give preferential consideration to resources dependent on riparian areas over other resources. Other resources uses and activities may occur to the extent that they support or do not adversely affect riparian-dependent resources. | In some Forest Plans, and FSM 2526.
4. By 1990, complete classifications and inventories of all riparian areas, and complete action plans to improve all unsatisfactory riparian areas. Improve all riparian areas to satisfactory or better condition by 2030. Such satisfactory conditions are specified below, expressed as percentage of “natural” conditions (that is, what each site can produce if not further disturbed by man). Twenty-five percent of all riparian areas must be in satisfactory condition by 2000. | FSM 2526.05, 2526.1, and 2605 (R3 Suppl). Also in some Forest Plans. Items (a) and (b) are obsolete, and will be updated in Forest Plan revisions.
(a) Aquatic resource:
(1) Maintain at least 80 percent of natural shade over water surfaces.
(2) Maintain at least 80 percent of natural bank protection.
(3) Maintain the composition of sand, silt, and clay within 20 percent of natural levels.
(b) Vegetation resource (where the site is capable of supporting woody plants):
(1) Maintain at least 60 percent of the woody plant composition in three or more riparian species.
(2) Maintain at least three age classes of riparian woody plants, with at least 10 percent of the woody plant cover in sprouts, seedlings, and saplings of riparian species.
(3) Maintain at least 60 percent of natural shrub and tree crown cover.
(c) Wildlife resources: Maintain at least 60 percent of natural shade over land surfaces.
5. On a site-specific basis, identify riparian-dependent resources and develop action plans and programs to bring about conditions essential to supporting those dependent resources. | FSM 2526.05, 2526.1, and 2605 (R3 Suppl).
Research Natural Areas
1. Identify, study, and designate sufficient areas to meet the representation requirements for terrestrial ecosystems in the Southwest by 1985. (See Table 3-1). Strengthen the representation of New Mexico ecosystems in the research natural area system. | Forest Plans, and FSM 4063.
2. The size of a research natural area will normally not be less than 300 acres and not be greater than 1,200 acres. Establish smaller areas to protect special ecosystems and smaller or larger areas to ensure logical boundaries. | FSM 4063.1.
3. Establish areas on National Forest System lands that include appropriate opportunities in wilderness. Emphasize establishment of areas where resources use is restricted by other designations, such as municipal watersheds and the Langmuir Research Area. Review new land acquisitions and lands released from other Federal agencies for research natural area designation. Examples are the Los Alamos Restricted Area and the Manzano Base Security Area in New Mexico. | Forest Plans (mgt area designations), and 36 CFR 219.18, 219.25.
4. Research natural areas on National Forest System lands of the Southwestern Region will be recognized, screened, and established in the following order of priority (listed in descending order). | Forest Plans—RNAs, FSM 4063.2, and 36 CFR 219.25.
(a) Priority will be given to candidate research natural areas where ecosystem representations:
(1) Include typical, extensive, and important flora or fauna.
(2) Exhibit modal (typical representative) features of biota, soils, climate commonly found on National Forest System lands.
(3) Include biotic populations of special interest or concern.
(4) Exist in mosaics that represent more than one ecological component of a research natural area.
(5) Have an apparent level of scientific interest or management importance use of even-aged management where perpetuation of this species is desired.
(6) Have a low degree of potential conflict with other uses, and are located where protection and access can be readily provided.
Table 3-1 Representation Needs for Research Natural Areas in the Southwestern Region (includes Biotic Community Classification, Forest Cover Types and/or Potential Natural Vegetation, Terrestrial Ecosystem Classification, Comments and Possible Sites). | Table is no longer needed. Representation needs for R3 were met. RNAs may be changed through Forest Plan amendment or revision.
Harvest Cutting Methods by Forest Type
Harvest cutting methods are defined in the NFMA regulations and described in Appendix D of the EIS. Both even-aged and uneven-aged harvest cutting methods are appropriate for use in the Southwestern Region. Even-aged management, with its many variations of cutting methods, is the most appropriate for managing the suitable lands where timber production is a primary objective. Uneven-aged management is most appropriate for use in certain special management areas where timber production is subordinate to other resource management objectives. In all cases, the harvest cutting method applied will be selected to best fit the particular abiotic, biotic, economic, and management objectives that apply to that stand. These objectives, as well as the areas where there systems will be used, will be identified in Forest Plans. | FSH 2409.17—Silv Practices Handbook, Cutting Methods Guide for R3 (currently being updated). Direction is outdated. Some Forest Plans include harvest method guidelines; will be updated in revisions. Also see FSM 1922.15(3).
Table 3-2 displays the appropriate silvicultural system and cutting methods to be used for each forest type. (See also Appendix D of the EIS.) However, these guidelines do not preclude the modification of silvicultural systems when applied to special areas or situations. Modifications may be determined on a case-by-case basis in Forest Plans according to the following criteria: | FSH 2409.17, which is currently being revised.
1. The system must develop conditions required to meet resource management objectives.
2. The system must permit control of competing vegetation sufficient to allow establishment of desirable reproduction.
3. The system must promote stand structures, composition, and conditions that minimize damage from pest organisms, animals, wind, and fire.
4. The system must be compatible with acceptable logging methods so that future stands can be cultured and harvested.
Table 3-2 Silvicultural Systems and Cutting Methods by Forest Type, and “principal cutting methods” (even-age harvest methods) recommended for aspen, mixed conifer, ponderosa pine, and spruce-fir; mix of even- and uneven age methods recommended for woodlands. | Outdated. Will be replaced in revised FSH 2409.17, and revised Forest Plans.
Maximum Size, Dispersal, Size Variation, and Duration of Created Openings
A natural opening is an area with less than 10 percent crown cover that has never supported a higher tree density—for example, a meadow, rock slide, or swamp. A created opening is a contiguous area greater than two acres in size that was created by vegetative manipulation and that does not meet tree height and stocking requirements. When an opening results from a natural occurrence, such as wildfire or windstorm, the opening will be treated as a created opening. | Referenced in Forest Plans and FSH 2409.17—Silvicultural Practices Handbook. Outdated, and is currently being revised. Will also be addressed in Forest Plan revisions.
1. A created opening will no longer be considered an opening when the conditions in Table 3-3 are met.
2. Clearcuts may not be larger than 40 acres without Regional Forester approval. The standards shown in Table 3-4 also apply, except in the following situations: (a) In the harvest of salvageable wood in areas subjected to catastrophic conditions, such as fire, insect and disease attack, or windstorm. (b) In the harvest of dwarf-mistletoe-infested overstory trees that threaten the established regeneration. A biological evaluation of Regional forest pest management experts is required. | Referenced in Forest Plans and FSH 2409.17—Silvicultural Practices Handbook. Outdated, currently being revised. Will also be addressed in Forest Plan revisions.
3. For nontimber species, such as the pinyon-juniper and chaparral types, standards and guidelines are established for the maximum size, dispersal, and duration of created openings. These standards and guidelines are designed to address concerns for wildlife and plant species. (a) In the woodland type, created openings in areas that have been identified as historic big-game winter range will be designed so that an animal will be no more than 600 feet from hiding cover at any location within the opening (25). (b) Limitations in Tables 3-3 and 3-4 apply to newly created openings in the pinyon-juniper type. Improve the interspersion of vegetated areas in existing openings. (c) Limitations in Tables 3-3 and 3-4 apply to permanent openings in the chaparral type. A permanent opening is an area that is maintained with no more than 50 percent of the potential natural crown cover. Fuelbreaks are excepted because they are less than 330 feet wide. (d) An area is no longer considered an opening in the pinyon-juniper type if one of the following conditions is met: (1) There are at least 35 trees per acre that are 10 feet or taller. (2) There are at least 80 trees per acre that are 6 feet or taller. (e) The minimum distance between openings is 660 feet. | Referenced in Forest Plans and FSH 2409.17—Silvicultural Practices Handbook. Outdated, currently being revised. Will be addressed in Forest plan revisions.
Table 3-3 When an Area Would No Longer Be Classified as an Opening. Table 3-4 Limitations on Created Openings (based on forest type and slope). | Referenced in Forest Plans and FSH 2409.17—Silvicultural Practices Handbook. Outdated, currently being revised. Will be addressed in Forest Plan revisions. Also in 36 CFR 219.27(d).
Management Intensity and Utilization Standards
Intensity: Intensity may vary depending on the management objectives, the tree species involved, site productivity, market supply or demand, and available funding. The following timber management practices may be used in the Region and will have an influence on both the total number of stand entries, frequency of stand entries, and the culmination of mean annual increment of growth: | FSH 2409.17, chapters 6 and 8, and 36 CFR 219.15.
1. Site preparation—chemical, mechanical, or burning.
2. Genetic improvement of tree stock (genetics).
3. Reforestation by planting, seeding, or natural means.
4. Protection of growing stock from animals, insects, diseases, and wildlife.
5. Release by the use of chemicals or mechanical methods.
6. Precommercial thinning.
7. Commercial thinning.
8. Salvage.
9. Regeneration harvest.
The number of entries into a stand depends on the species type and site quality, as well as on the volume needed to make an entry economically feasible.
Utilization: Utilization standards shown in Table 3-5 will be used in determining harvest levels. | FSH 2409.12, chap. 10 (R3 Suppl); also in some Forest Plans.
Table 3-5 Utilization Standards for the Determination of Harvest Levels.
Corridors
1. All corridors will provide for joint use (FSM 2778, FLPMA). Corridors include all linear rights-of-way, except those highways covered under the National Forest Roads and Trails Act of October 1964. | FSM 2778, and FLPMA. Also see FSM 1920.15(19).
2. Corridor designation will be addressed in Forest Plans. Joint use of corridors will be determined on a case-by-case basis contingent upon individual use and these compatibility guidelines. Requests for corridors not in the Regional Guide or in Forest Plans will be evaluated using the environmental analysis process. | Forest Plans—Utility Corridor Plans and maps; FSH 7709.55(11.3); and FSH 1909.15.
3. The following alternatives will be evaluated prior to designation of new corridors: (a) Use existing rights-of-way (retaining currently authorized width), but upgrade capacity. For example, upgrade 230 kV transmission line to 345 kV or replace a 10-inch pipeline with a 12-inch pipeline. (b) Expand the existing rights-of-way limits to include additional facilities where compatible. For example, authorized a pipeline right-of-way adjacent to an existing highway or railroad right-of-way. | Forest Plans—Utility Corridor Plans and maps; FSH 7709.55(11.3).
4. Guidelines for Joint Use of Corridors will be developed at a later date. Summarized guidance may be adopted from a study done by the Aerospace Corporation for the Bureau of Land Management. (a) Table 3-6, entitled “System Interactions in Joint Use of Rights-of-Way,” contains factors that influence the joint use of corridors and is offered as a guide that should be considered when evaluating such proposals. (b) The standard right-of-way width requirements listed in Table 3-7 are average widths that may apply nationwide. In actual practice, rights-of-way must be tailored to allow for flexibility and reliability as dictated by the topography. The feasibility of joint use of corridors will be dictated frequently by the physical environment through which the right-of-way passes. (c) The following evaluation criteria will be used to determine if right-of-way proposals can be accommodated through the joint use of designated corridors. (1) Technical compatibility with other utility or transportation uses already existing in a corridor (2) System reliability, considering safety, natural disasters or catastrophic events, national security. (3) Economics, including alternative routes, mitigation costs. (4) Physical capability of the land, such as width of a mountain pass; (5) Compatibility with adjacent land uses, such as prime or unique farmlands, recreation areas, classified wilderness, mineral development or exploration areas, prime timber-producing lands, or known geothermal resources areas. (6) Landownership, including impact on other landowners. (7) State and local land-use plans and policies. (8) Environmental sensitivity. | Direction in FSH 7709.55 (11.3) that guide utility corridor planning, along with Forest Plan direction, is an adequate substitute for this Reg. Guide direction. Also, FSH 1909.15 (NEPA) will cover evaluation criteria regarding ROW proposals (item c, 1-8). Also see FSM 2730—special uses roads and easements; and FSM 2732.42—MOUs for State Hwys on NFS lands.
5. New corridor designation will be pursued only after critical windows and avoidance areas are identified. A window is a confined area of land through which a right-of-way could pass.
Windows will be identified on proposed corridors when: (a) Users express a need for rights-of-way in a constrained area. (b) A systems analysis indicates a proposed location is needed through a constrained (restricted) area. | Forest Plans identified critical windows and avoidance areas. New corridor designations will be guided by FSH 7709.55, 1909.15, and 1920.
A window will be considered to be present where: (a) Constraints on Federal lands occur near proposed rights-of-way. (b) Land uses and values adjacent to proposed rights-of-way prevent the establishment of the right-of-way. (c) Any blocks or tracts of public land are proposed corridors between source and market. (d) Blocks or tracts of Federal lands are in alignment with other windows, avoidance areas, or existing corridors.
Table 3-6 Systems Interactions in Joint Use of Rights-of-Way (Source: USDI Bureau of Land Management. 1975. The Need for a National System of Transportation and Utility Corridors. Page IV-22) | This table is unnecessary. FSH 2709.12 provides adequate direction for forest planning purposes.
Table 3-7 Right-of-Way Width Requirements (Feet). Source—Aerospace Corporation, 1975. | This table is unnecessary. FSH 2709.12 provides adequate direction for forest planning purposes.
Technical Compatibility Factors for Joint-Use of Rights-of-Way.
Federal Railroad Right-of-Way Act of 1875 set right-of-way width at 200 feet.
Industry practice is normally to retain entire construction right-of-way width on non-Federal lands.
Avoidance areas—land areas that have particular land uses or environmental characteristics that would be difficult or impossible to mitigate—include the following: (a) Areas where establishment and use of corridors will conflict with land-use/land management objectives. Examples: Specially managed areas, environmentally sensitive areas, archaeological and historical sites, visually sensitive areas, active coal mining units, high site timber lands when low site lands are available. (b) Areas that through the NEPA scoping process have been identified by Federal agencies or by local governmental bodies (within their areas of jurisdiction) as not suitable for the placement of linear facilities. Identification of such areas will influence the location of corridor entry and exit points on National Forest System lands. Examples: Urban-suburban residential areas, parks and recreation areas, prime forest or agricultural areas. | Forest Plans classified avoidance areas. Future planning for corridors will follow guidance in FSH 7709.55, 1909.15 and 1920.
6. A transportation-utility corridor can be designated in the following ways: | FSH 7709.55 (11) and FSM 2731.42 (R3 Suppl)
(a) Pending approval of a Forest Plan, delineation in a special-use permit. Designation by this means will be incorporated into the Forest Plan as required by section 6(i) of NFMA. |
(b) Approval of a Forest Plan, or revision or amendment thereof, that assigns lands to a linear corridor, including designation of windows and existing corridors. |
(c) Approval, without further review, of any existing corridor that includes or is capable of accommodating additional compatible rights-of-way. This form of designation will occur only in extraordinary circumstances. Normally, designations will be made as in 6(b), above. |
Public notice of a corridor designation made in the Forest Plan (item 6(b), above) will be given through publication and circulation of the Forest Plan, its Environmental Impact Statement, and the associated Record of Decision. Public notice of designations made as in items 6(a) and 6(c), above, will be given through publication in local newspapers or the circulation of a Decision Notice on an Environmental Assessment. | Completed in development of Forest Plans. Future planning for corridors will follow guidance in FSH 7709.55, 1909.15 and 1920.
Air-Quality Management
1. Forest Plans will provide direction for the planning and management of air-pollution-generating activities on National Forest System lands so that air quality will be equal to or better than that required by the applicable Federal, State, and local standards or regulations. | Forest Plans, FSM 2580, 2580.43, and FSM 5130 and 5150 (smoke)
2. Forest Plans will identify air-quality-related values, including visibility, for all National Forest System Class I areas, as defined by the Clean Air Act. Forest Plans will not identify integral vistas, but will identify existing visibility impairment in National Forest System Class I areas. | Forest Plans (and FEISs), and FSM 2580.3, 2580.5 Exhibit 01-AQRVs in R3 Class I wilderness, and 2580.5 Exhibit 02-R3 Airsheds
3. Forest Plans will document baseline quantities of total suspended particulates from wildfires and prescribed fires on National Forest System land. Estimates of quantities that will result from Forest Plan alternatives will be calculated. | This data is not yet available. Air quality monitors are currently being established. Direction in FSM 2580 is adequate to guide planning in meeting applicable air quality laws and regulations.
4. The Regional Office Director of Aviation and Fire Management is the primary Forest Service contact with the State air-quality control agencies to provide interagency coordination. | Not applicable; not a standard or guideline. Covered in FSM 2580.43 (R3 Suppl).
Minerals
Locatable Minerals: Forest Service regulations (36 CFR 228) apply to locatable mineral operations conducted under the authority of the General Mining Law. These regulations seek to minimize surface resource disturbance without infringing on rights granted by law. A plan of operation is required from anyone proposing operations that might cause significant surface resource disturbance. The operating plan must contain information about the type of operation, how it is to be conducted, the route and means of access, measures for environmental protection, and reclamation. The plan of operation is required to comply with applicable Federal and State provisions for maintenance of air quality, water quality, and solid waste disposal. Scenic values, fisheries, and wildlife habitat are to be given such protection as is practicable. Road construction and maintenance are designed to minimize and prevent, if practicable, damage to soil, water, and other values. | 36 CFR 228, subpart A, including 228.4 and .5-plan of operations requirements. Also covered in FSM 2810 and 2802, 2803.
Approval of the plan is required before operations commence. A bond to ensure reclamation may be required as a condition of approval. In analysis of the plan, economics of the operation are considered in determining the reasonableness of the provisions for surface resource protection. Approval indicates that the operation, conducted according to the plan, will minimize surface resource disturbance. Approval may be withheld or delayed only for limited reasons specified in the regulations. A plan that describes an operation conducted in a reasonable and necessary manner is entitled to approval, even through surface resource damage may result. Approval of a plan does not signify consent to operate. Consent is granted by law. | 36 CFR 228, subpart A, including 228.4 and .5-plan of operations requirements, and 228.13-bond reqts. Also covered in FSM 2810, and 2802, 2803.
The Forest Service regulations (36 CFR 228) also apply to wilderness. Although prospecting and mining are authorized in these areas, they must be conducted as compatibly with the preservation of wilderness character as is practicable. The regulations are applied more strictly in wilderness than on other lands. | 36 CFR 228.15.
Salable Minerals: When need for salable mineral materials is indicated by government and/or private application, an environmental analysis will be conducted. If it is determined from this analysis that the site should be operated, appropriate conditions of operation are specified. Mineral materials are free for Federal, State, and local government units for use in road building. Competitive or negotiated sale is appropriate for personal and commercial use. The Wilderness Act of 1964 does not prohibit mineral material sales, but policy, expressed in regulations (36 CFR 293.14(c)), does. | 36 CFR 228, Subpart C, and FSM 2850, and FSH 1909.15 and 1920.
Leasable Minerals: National Forest System land is available for mineral exploration, development, and production unless withdrawn from operation of the leasing laws, or unless withdrawal can be demonstrated as appropriate. Proposals for leases under the various leasing laws are considered in a speedy, simple process that does not sacrifice protection of surface resources. The process emphasizes the use of existing controls, minimizes special stipulations, and standardizes the wording of those special stipulations commonly needed. It also recognizes that a lease does not authorize surface-disturbing activity, but that operations are subject to an additional permit, issuance of which is preceded by an environmental analysis. | Forest Plans, +36 CFR 228, Subpart B, and Subpart E on oil and gas leasing. FSM 2820. Also see 36 CFR 219.22.
1. During the Forest planning process, land will be categorized for consideration of proposals for prospecting permits or leases under the various mineral leasing laws. Where applicable, management prescriptions will identify the following mineral leasing categories of an area for leasing and the operating constraints necessary to manage and protect surface resources: (1) Unavailable, (2) standard, (3) special, and (4) reserved. (See Appendix A for definitions of categories.) In a programmatic environmental analysis completed March 18, 1981, it was shown that little or no effect normally would result from a lease issued in areas in the standard category and all subcategories of the special category, except wilderness, wilderness study areas designated by Congress, and Administration-endorsed wilderness proposals, which are a special group within the limited surface use subcategory. | Forest Plans. 36 CFR 219.22, and 36 CFR 228.
2. For oil and gas leasing, the following special stipulation forms will be used in appropriate circumstances as supplements to the Bureau of Land Management Form 3109-3 (Stipulation for Lands Under the Jurisdiction of the Department of Agriculture): Endangered Species, Cultural and Paleontological Resources; Limited Surface Use; Further Planning; Wild and Scenic River Study; and Painting (See Appendix A). | FSM 2822.41, and 36 CFR 228 Subpart E.
3. For geothermal leasing, fewer and different special stipulations are needed than for oil and gas because the base lease, regulations, and Operational Orders give more comprehensive protection. Standard special stipulations are being developed for geothermal leases that will be used nationwide. | FSM 2170 (energy mgt).
4. Approval of the Regional Forester and Bureau of Land Management is required for inclusion of additional oil and gas or geothermal stipulations. | FSM 2822 and 2170; 36 FR 228.101, 102.
5. Prospecting for and production of other (solid) leasable minerals involves highly varied operations, and in recognition of this, conditions in base leases and regulations are less specific than those for oil and gas or for geothermal leases. There are no operating instructions. The special stipulations applicable to oil and gas will be used in appropriate circumstances; any needed additional ones require Regional Forester and Bureau of Land Management approval. | 36 CFR 228, Subparts B and E. FSM 2820. Also see 36 CFR 219.22, and 36 CFR 228.108—surface use requirements.
6. Changes in base lease, regulations, and operating instructions, and development of nationwide special stipulations may require accommodating changes in wording and use of those herein. | This is a statement, not a standard.
7. Wilderness areas, wilderness study areas designated by Congress, and RARE II wilderness recommendations are in a subcategory of the special category, for which an environmental assessment or environmental impact statement is mandated. The report to the Bureau of Land Management is derived from this document. In circumstances defined by the Chief of the Forest Service, the contingent right stipulation may be used in addressing leasing proposals as an alternative to the above. (See Appendix A.) | 36 CFR 228.15—operations in Wilderness; and FSH 1909.15.
Goals for the Southwestern Region
1. Provide for the preservation of scenic beauty and the opportunity to enjoy it. 2. Provide a moderate increase in water yield, while maintaining water quality. 3. Provide high-quality wilderness in the Southwestern ecosystems and the opportunity to enjoy them. 4. Provide recreation opportunities in a natural setting. 5. Provide productive habitat for a diverse population of wildlife and fish species. 6. Provide for the sustained moderate production of timber and forage. 7. Recognize local traditional values and take opportunities to emphasize community stability and job opportunities through management programs, especially in areas where local people rely on the land for a social and economic base. 8. Provide opportunities for mineral development with emphasis on energy-related resources. 9. Encourage the protection and management of non-Federal range, forest, and watershed lands by providing assistance and research information to landowners through State agencies. 10. Strive for optimally effective public and employee health and safety programs. 11. Seek viewpoints and assistance in developing these health and safety programs and keep the public informed about Forest Service activities. 12. Provide an opportunity for human resource development through employment programs. 13. Stimulate, cooperate in, and implement relevant research. 14. Develop, motivate, and maintain an effective organization to support and accomplish all Regional programs, while providing equal employment opportunities, challenging career ladders, and the full use of all available employee skills. | These goals are already contained in Forest Plans, along with statutes, regulations and Forest Service directives.

[FR Doc. 01-31200 Filed 12-18-01; 8:45 am]

BILLING CODE 3410-11-M